ENVIRONMENTAL PROTECTION AGENCY

[ER-FRL-8594-5]

Environmental Impacts Statements; Notice of Availability

Responsible Agency: Office of Federal Activities, General Information (202) 564-1399 or http://www.epa.gov/compliance/nepa/.

Weekly receipt of Environmental Impact Statements

Filed 06/08/2009 Through 06/12/2009.

Pursuant to 40 CFR 1506.9.

EIS No. 20090188, Draft EIS, AFS, AZ, Pinaleno Ecosystem Restoration Project, Proposed On-the-Ground Treatments to Improve Forest Health and Improve or Protect Red Squirrel Habitat, Coronado National Forest, Graham County, AZ, Comment Period Ends: 08/04/2009, Contact: Craig Wilcox, 928-348-1961.

EIS No. 20090189, Draft EIS, AFS, CA, Beaverslide Timber Sale and Fuel Treatment Project, Proposing to Harvest Commercial Timber and Treat Hazardous Fuels, Six Rivers National Forest, Mad River Ranger District, Trinity County, CA, Comment Period Ends: 08/04/2009, Contact: Keith A. Menasco, 928-774-6594.

EIS No. 20090190, Draft EIS, AFS, OR, Wallowa-Whitman National Forest Travel Management Plan, Designate Roads Trails and Areas for Motor Vehicle User, Baker, Grant, Umatilla, Union and Wallowa Counties, OR, Comment Period Ends: 08/17/2009, Contact: Cindy Whitlock, 541-962-8501.

EIS No. 20090191, Final EIS, NOA, 00, Amendment 1 to the Consolidated Highly Migratory Species (HMS) Fishery Management Plan, (FMP), Updating and Revising Essential Fish Habitat (EFH) for Atlantic Highly Migratory Species (HMS) consider additional Habitat Area of Particular Concern (HAPC) and Analyze Fishing Impacts, Chesapeake Bay, MD, Delaware Bay, DE, Great Bay, NJ and Outer Bank off NC, Wait Period Ends: 07/20/2009, Contact: Margo Schulze-Haugen 301-713-2347.

EIS No. 20090192, Draft EIS, FHW, ID, Idaho 16, I-84 t0 Idaho 44 Environmental Study, Proposed Action is to Increase the Transportation Capacity, Funding, Ada and Canyon Counties, ID, Comment Period Ends: 08/07/2009, Contact: Ross Blanchard, 203-334-9180.

EIS No. 20090193, Final EIS, AFS, WI, Camp Four Vegetation Project, Proposes Vegetation and Road Management Activities, Desired Future Condition (DFC), Medford-Park Falls Ranger District, Chequamegon-Nicolet National Forest, Price County, WI, Wait Period Ends: 07/20/2009, Contact: Ann Hoefferle, 715-748-4878 Ext 24.

EIS No. 20090194, Final EIS, AFS, CA, Moonlight and Wheeler Fires Recovery and Restoration Project, Analysis of the No-Action and Action Alternatives, Mt. Hough Ranger District, Plumas National Forest, Plumas County, CA, Wait Period Ends: 07/20/2009, Contact: Rich Bednarski, 530-283-7641.

EIS No. 20090195, Final EIS, COE, LA, Mississippi River-Gulf Outlet (MRGO), Louisiana, and Lake Borgne Wetland Creation and Shoreline Protection Project, Proposes to Construct Shoreline Protection Features Along the Lake Borgne Shoreline to Restore and Nourish Wetlands, Lake Borgne, LA, Wait Period Ends: 07/20/2009, Contact: Dr. William P. Klein, Jr., 504-862-2540.

Dated: June 16, 2009.
Robert W. Hargrove,
Director, NEPA Compliance Division, Office of Federal Activities.

[FR Doc. E9-14462 Filed 6-18-09; 8:45 am]

BILLING CODE 6560-50-P